ENVIRONMENTAL PROTECTION AGENCY

[EPA-HQ-OPPT-2016-0023; FRL-9946-86]

Certain New Chemicals; Receipt and Status Information for April 2016

AGENCY: Environmental Protection Agency (EPA).

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from April 1, 2016 to April 29, 2016.

DATES: Comments identified by the specific case number provided in this document, must be received on or before July 5, 2016.

ADDRESSES: Submit your comments, identified by docket identification (ID) number EPA-HQ-OPPT-2016-0023, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Jim Rahai, Information Management Division, 7407M, Office of Pollution Prevention and Toxics, Environmental Protection Agency, 1200 Pennsylvania Ave. NW., Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitters of the actions addressed in this document.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This document provides receipt and status reports, which cover the period from April 1, 2016 to April 29, 2016, and consists of the PMNs and TMEs both pending and/or expired, and the NOCs to manufacture a new chemical that the Agency has received under TSCA section 5 during this time period.

III. What is the Agency's authority for taking this action?

Under TSCA, 15 U.S.C. 2601 et seq., EPA classifies a chemical substance as either an “existing” chemical or a “new” chemical. Any chemical substance that is not on EPA's TSCA Inventory is classified as a “new” chemical, while those that are on the TSCA Inventory are classified as an “existing” chemical. For more information about the TSCA Inventory go to: http://www.epa.gov/opptintr/newchems/pubs/inventory.htm.

Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic reports on the status of new chemicals under review and the receipt of NOCs to manufacture those chemicals.

IV. Receipt and Status Reports

As used in each of the tables in this unit, (S) indicates that the information in the table is the specific information provided by the submitter, and (G) indicates that the information in the table is generic information because the specific information provided by the submitter was claimed as CBI.

For the 58 PMNs received by EPA during this period, Table 1 provides the following information (to the extent that such information is not claimed as CBI): The EPA case number assigned to the PMN; the date the PMN was received by EPA; the projected end date for EPA's review of the PMN; the submitting manufacturer/importer; the potential uses identified by the manufacturer/importer in the PMN; and the chemical identity.

Table 1—PMNs Received From April 1, 2016 to April 29, 2016
Case No. | Date received | Projected end date for EPA review | Manufacturer/ Importer | Use(s) | Chemical identity
P-16-0095 | 4/11/2016 | 7/10/2016 | CBI | (G) Flame retardant additive | (G) Phenol-formaldehyde resin.
P-16-0119 | 4/20/2016 | 7/19/2016 | CBI | (G) Intermediate | (G) Chlorofluorocarbon.
P-16-0150 | 4/26/2016 | 7/25/2016 | CBI | (G) Intermediate | (G) Chlorofluorocarbon.
P-16-0267 | 4/20/2016 | 7/19/2016 | Allnex USA, Inc | (S) Electro-deposition primer | (G) Fatty acids, reaction products with alkylamine, polymers with substituted carbomonocycle, substituted alkylamines, heteromonocycle and substituted alkanoate, lactates (salts).
P-16-0277 | 4/1/2016 | 6/30/2016 | Organic Dyestuffs Corporation | (S) Metalized dye for dyeing wool with good fastness properties | (S) Chromate(1-), hydroxy[2-(hydroxy-ko)-3-[2-[2-(hydroxy-ko)-1-naphthalenyl]diazenyl-kn1]-5-nitrobenzenesulfonato(3-)]-, sodium (1:1).
P-16-0279 | 4/4/2016 | 7/3/2016 | Akzo Nobel Surface Chemistry, LLC | (G) Component in paints | (S) Hexanamide, n,-[3-(dimethylamino)propyl]-, compd, with 2-methyloxirane polymer with oxirane mono (2-ethylhexyl) ether phosphate.
P-16-0281 | 4/11/2016 | 7/10/2016 | CBI | (G) Reactive polyol | (G) Fatty alcohols—dimers, trimmers, polymers.
P-16-0287 | 4/1/2016 | 6/30/2016 | CBI | (G) Hardener for epoxy coating | (G) Alkanoic acid, 2-substituted-methyl ester, reaction products with aromatic diamine-[alkanediylbis(oxymethylene)]bis[oxirane] polymer.
P-16-0289 | 4/1/2016 | 6/30/2016 | CBI | (G) Extrusion compounding resin molding resin | (G) Semi-aromatic polyamide.
P-16-0290 | 4/1/2016 | 6/30/2016 | CBI | (G) Fuel additive | (G) Copolymer of maleic acid and olefin.
P-16-0291 | 4/3/2016 | 7/2/2016 | CBI | (G) Curing agent | (G) 1,3-cyclohexanedimethanamine adduct.
P-16-0292 | 4/5/2016 | 7/4/2016 | CBI | (S) Intermediate for use in the manufacture of polymers | (G) Depolymerized waste plastics.
P-16-0293 | 4/13/2016 | 7/12/2016 | Charkit Chemical Corporation | (S) Compounding of fragrance for industrial cleaners/janitorial compounds, detergents, etc | (S) Octanoic acid, phenylmethyl ester.
P-16-0299 | 4/20/2016 | 7/19/2016 | CBI | (S) Reactive (meth)acrylate oligomer for ultra violet cured 3d printed parts | (G) Polyurethane, methacrylate-blocked.
P-16-0300 | 4/6/2016 | 7/5/2016 | H.B. Fuller Company | (G) Industrial adhesive | (G) Oxirane, 2-methyl-, polymer with 1,3-xylylene diisocyanate and oxirane, 3-(trimethoxysilyl)propyl isocyanate.
P-16-0301 | 4/6/2016 | 7/5/2016 | CBI | (G) Intermediate | (G) Propyl silsesquioxanes, hydrogen-terminated.
P-16-0302 | 4/6/2016 | 7/5/2016 | CBI | (G) Plastic additive | (G) Organic modified propyl silsesquioxane.
P-16-0303 | 4/7/2016 | 7/6/2016 | CBI | (G) Use for the production of acrylic resin for waterborne exterior coatings composition | (G) Alkyl methyacrylate polymer with styrene, amino acrylate and acrylic acid, ammonium salt.
P-16-0304 | 4/7/2016 | 7/6/2016 | CBI | (G) Industrial adhesive | (G) Polyurea grease.
P-16-0305 | 4/7/2016 | 7/6/2016 | CBI | (G) Industrial Adhesive | (G) Polyurea grease.
P-16-0307 | 4/8/2016 | 7/7/2016 | CBI | (G) Open non dispersive use | (G) Heteropolycycliccarboxylic acid, 1,3-dihydro-disubstituted-, polymer with 1,1'-methylenebis[4-isocyanatobenzene], reaction products with silica.
P-16-0308 | 4/8/2016 | 7/7/2016 | Itaconix Corporation | (G) Reactive Monomer | (S) Butanedioic acid, 2-methylene-, 1,4-bis (2-methylpropyl) ester.
P-16-0309 | 4/8/2016 | 7/7/2016 | CBI | (G) PMN substances are intended for use as rheological or thixotropic agents used in the production of solvent based industrial coatings, high solid aromatic paints, adhesives, sealants, and other types of paints and topcoats | (G) Bisamide mixture.
P-16-0310 | 4/8/2016 | 7/7/2016 | CBI | (G) PMN substances are intended for use as rheological or thixotropic agents used in the production of solvent based industrial coatings, high solid aromatic paints, adhesives, sealants, and other types of paints and topcoats | (G) Bisamide mixture.
P-16-0311 | 4/8/2016 | 7/7/2016 | CBI | (S) Coatings for wood metal and plastic | (G) Aromatic dicarboxylic acid, polymer with alkyl dicarcoxylic acid, alkyl diol, hydroxy(hydroxyalkyl)alkylcarboxylic acid, methylenebis(isocyanatocycloalkane) and alkylethylidene bis(phenyleneoxy)bis[alkyl alcohol].
P-16-0312 | 4/8/2016 | 7/7/2016 | CBI | (S) Coatings for wood metal and plastic | (G) Aromatic dicarboxylic acid, polymer with cycloalkanemethanol, alkanediamine, alkanedioic acid, hydroxy-2-(hydroxyalkyl)-2-alkylcarboxylic acid, methylenebis[isocyanatocycloalkane] and [(methylethylidene)bis(phenyleneoxy)]bis[alkanol].
P-16-0313 | 4/11/2016 | 7/10/2016 | Honeyol, Inc | (S) Use in production of resins (raw material used in the production of resins) | (S) Tar acids (shale oil), c6-9-fraction, alkylphenols, low-boiling.
P-16-0314 | 4/11/2016 | 7/10/2016 | Firmenich, Inc | (G) As part of a fragrance formula | (S) Ethanone, 1-(5-propyl-1,3-benzodioxol-2-yl)-
P-16-0315 | 4/11/2016 | 7/10/2016 | CBI | (S) Industrial rubber formulation | (G) Alkyldiene, polymer, terminated alkoxysilylalkylcarbamate.
P-16-0316 | 4/11/2016 | 7/10/2016 | CBI | (G) Drilling chemical | (G) Aliphatic polyester.
P-16-0317 | 4/11/2016 | 7/10/2016 | CBI | (G) Drilling chemical | (G) Aliphatic polyester.
P-16-0322 | 4/22/2016 | 7/21/2016 | CBI | (G) Pulp bleaching catalyst | (G) Manganese cyclic (tri)amine chloride complex.
P-16-0322 | 4/22/2016 | 7/21/2016 | CBI | (G) Textile bleaching catalyst | (G) Manganese cyclic (tri)amine chloride complex.
P-16-0323 | 4/13/2016 | 7/12/2016 | Allnex USA, Inc | (G) Coating resin | (G) Alkylaldehyde, reaction products with substituted carbomonocycle-substituted heteromonocycle-alkylene glycol bis [[[substituted(oxoneoalky)oxy]alkyl]amino]alky] ether polymer and alkyl substituted alkanediamine, acetate salts.
P-16-0324 | 4/13/2016 | 7/12/2016 | CBI | (G) Adhesive for open non-descriptive use | (G) Ultra violet-curable urethane acrylate.
P-16-0325 | 4/13/2016 | 7/12/2016 | CBI | (G) Oil & Gas extraction | (G) Polymer of substituted acrylic acid and bromohexane.
P-16-0326 | 4/27/2016 | 7/26/2016 | Firmenich, Inc | (G) As part of a fragrance formula | (S) Propanoic acid, 2,2-dimethyl-,1-methyl-2-(1-methylethoxy)-2-oxoethyl ester.
P-16-0327 | 4/14/2016 | 7/13/2016 | CBI | (G) Additive in rubber tires | (G) Alkenoic acid, polymer with alkylalkenoate, sodium salt.
P-16-0328 | 4/19/2016 | 7/18/2016 | CBI | (G) Intermediate | (G) Terephthalic acid, polymer with alkanepolycarboxylic acids, alkanepolyols, isophthalic acid, polyetherpolyol, 1,1-methylenebis[isocyanatobenzene], phthalic anhydride and a substituted alkanepolyol.
P-16-0329 | 4/19/2016 | 7/18/2016 | CBI | (G) Adhesive component | (G) Polymer of alkanepolycarboxylic acids, alkanepolyols, isophthalic acid, polyetherpolyols, 1,1-methylenebis[isocyanatobenzene], terephthalic acid, phthalic anhydride and a substituted alkanepolyol.
P-16-0330 | 4/19/2016 | 7/18/2016 | H.B. Fuller Company | (G) Industrial adhesive | (G) Hydroxy functional triglyceride polymer with glycerol mono-ester and 1,1'-methylenebis[4-isocyanatobenzene].
P-16-0331 | 4/19/2016 | 7/18/2016 | H.B. Fuller Company | (G) Industrial adhesive | (G) Hydroxy functional triglyceride polymer with glycerol mono-ester and 1,1'-methylenebis[isocyanatobenzene].
P-16-0332 | 4/21/2016 | 7/20/2016 | CBI | (G) Component of coating | (G) Carbomonocycle phosphate metal salt.
P-16-0334 | 4/22/2016 | 7/21/2016 | Lamberti USA, Inc | (G) Additive for industrial purposes | (G) Polymeric amide.
P-16-0335 | 4/22/2016 | 7/21/2016 | Lamberti USA, Inc | (G) Additive for industrial purposes | (G) Polymeric amide.
P-16-0336 | 4/22/2016 | 7/21/2016 | CBI | (G) Fuel additive—destructive use | (G) Polyolefin ester.
P-16-0337 | 4/25/2016 | 7/24/2016 | CBI | (S) Monomer | (G) Aliphatic acrylate.
P-16-0338 | 4/26/2016 | 7/25/2016 | CBI | (G) Dyestuff | (G) Substituted xanthene derivative.
P-16-0339 | 4/26/2016 | 7/25/2016 | CBI | (G) Dyestuff | (G) Azo derivatives.
P-16-0340 | 4/26/2016 | 7/25/2016 | Solazyme, Inc | (G) Feedstock for oleochemical industry | (G) Glycerides, c8-18 and c18 unsaturated, from fermentation.
P-16-0340 | 4/26/2016 | 7/25/2016 | Solazyme, Inc | (G) Renewable oil source for fuels | (G) Glycerides, c8-18 and c18 unsaturated, from fermentation.
P-16-0341 | 4/27/2016 | 7/26/2016 | Perstorp Polyols | (G) Elastomer | (S) 2-oxepanone, homopolymer, ester with 1,6-hexanediol.
P-16-0341 | 4/27/2016 | 7/26/2016 | Perstorp Polyols | (S) Industrial coatings | (S) 2-oxepanone, homopolymer, ester with 1,6-hexanediol.
P-16-0341 | 4/27/2016 | 7/26/2016 | Perstorp Polyols | (S) Adhesive components | (S) 2-oxepanone, homopolymer, ester with 1,6-hexanediol.
P-16-0342. | 4/27/2016 | 7/26/2016 | CBI | (S) Modified acrylic polymer used as a dispersant for deflocculation of pigments in industrial paints and coatings | (G) Modified acrylic polymer.
P-16-0343 | 4/27/2016 | 7/26/2016 | CBI | (S) Modified urethane polymer used as a dispersant for deflocculation of pigments in industrial paints and coatings | (G) Modified urethane polymer.
P-16-0344 | 4/27/2016 | 7/26/2016 | CBI | (S) Modified acrylic polymer used as a dispersant for deflocculation of pigments in industrial paints and coatings | (G) Modified urethane polymer.
P-16-0345 | 4/28/2016 | 7/27/2016 | CBI | (G) Processing aid | (G) Acrylamide, polymer with methacrylic acid derivatives.

For the 31 NOCs received by EPA during this period, Table 2 provides the following information (to the extent that such information is not claimed as CBI): The EPA case number assigned to the NOC; the date the NOC was received by EPA; the projected date of commencement provided by the submitter in the NOC; and the chemical identity.

Table 2—NOCs Received From April 1, 2016 to April 29, 2016
Case No. | Date received | Projected date of commencement | Chemical identity
P-05-0522 | 4/26/2016 | 3/31/2016 | (S) [1,1'-biphenyl]-4-carboxaldehyde.
P-11-0243 | 4/1/2016 | 3/12/2016 | (G) Alkanedioic acid polymer with alkanediol and diisocyanatohexane.
P-13-0670 | 4/25/2016 | 4/4/2016 | (G) Alkyl-[4-(carbomonocyclesubstituted)carbomonocycle]-(dialkyl-hydroxycarbomonocycle)alkane derivative.
P-13-0671 | 4/25/2016 | 4/4/2016 | (G) Alkyl-[4-(carbomonocyclesubstituted)carbomonocycle]-(dialkyl-hydroxycarbomonocycle)alkane derivative.
P-14-0166 | 4/4/2016 | 3/3/2016 | (G) Fatty acid amide.
P-14-0185 | 4/4/2016 | 3/5/2016 | (G) Fatty acid amide acetate.
P-14-0800 | 4/22/2016 | 4/11/2016 | (G) Solvent red 252.
P-15-0046 | 4/12/2016 | 4/1/2016 | (S) Propanol, oxybis, polymer with bis(isocyanatomethyl)cyclohexane and alpha-hydro-omega-hydroxypoly(oxy-1,4-butanediyl).
P-15-0074 | 4/8/2016 | 3/30/2016 | (G) Trisiloxane alkoxylate.
P-15-0329 | 4/12/2016 | 3/12/2016 | (S) Urea, n, n“-1,6-hexanediylbis[n'-[(1s)-1-phenylethyl]-.
P-15-0382 | 4/29/2016 | 4/20/2016 | (G) Polyitaconic acid, sodium zinc salt.
P-15-0409 | 4/5/2016 | 3/24/2016 | (G) Substituted alkanolamine ether.
P-15-0515 | 4/19/2016 | 4/7/2016 | (G) 2-propenoic acid, 2-methyl, methyl ester, polymer with ethenylbenzene, ethyl 2-propenoate, 2-oxiranylmethyl 2-methyl-2-propenoate and 1,2-propanediol mono(2-methyl-2-propenoate), reaction products with dialkylamine, carboxylate salt.
P-15-0567 | 4/8/2016 | 3/10/2016 | (S) Hexanedioic acid, polymer with 1,?6-?hexanediol, 1,?3-?isobenzofurandione, 5-?isocyanato-?1-?(isocyanatomethyl)?-?1,?3,?3-?trimethylcyclohexane and 1,?2,?3-?propanetriol, 2-?hydroxyethyl acrylate-?blocked.
P-15-0623 | 4/18/2016 | 4/14/2016 | (G) Fatty acids, polymers with bisphenol a, nutshell liq., epichlorohydrin, alkylenediamine, formaldehyde and polyalkylenepolyamine.
P-15-0733 | 4/4/2016 | 3/13/2016 | (G) Alkane carboxylic acid, hydroxy, hydroxyalkyl-alkyl, polymer with .alpha.-hydro-.omega.-hydroxypoly(oxy-1,2-ethanediyl) ether with alkyl-(hydroxyalkyl)-alkanediol (x:1), .alpha.-hydro-.omega.-hydroxypoly[oxy(alkyl-alkyldiyl)] and alkylenebis [isocyanatoalkane],-blocked.
P-15-0737 | 4/12/2016 | 4/7/2016 | (G) Diammonium salt of phosphate methacrylate.
P-15-0737 | 4/12/2016 | 4/7/2016 | (G) Monoammonium salt of phosphate methacrylate.
P-15-0769 | 4/14/2016 | 4/4/2016 | (G) Polyurethane silane.
P-16-0009 | 4/1/2016 | 3/9/2016 | (S) Fatty acids, castor-oil, esters with polyethylene glycol ether with glycerol (3:1).
P-16-0026 | 4/11/2016 | 4/3/2016 | (G) Amine functional epoxy, organic acid salt.
P-16-0100 | 4/5/2016 | 3/23/2016 | (G) Substituted heteropolycyclic derivs.
P-16-0107 | 4/14/2016 | 3/27/2016 | (G) Aromatic polycarboxylic acid, polymer with alkyldiol, alkylidioic acid, aromatic polyisocyanate, substituted alkyldiol, compd. with alkylamine.
P-16-0108 | 4/28/2016 | 3/17/2016 | (G) Carbonic acid, polymer with, 5-isocyanato-1-(isocyanatomethyl)- 1,3,3-trimethylcyclohexane, 2-hydroxyethyl acrylate-blocked.
P-16-0115 | 4/6/2016 | 3/27/2016 | (G) 2-propanediol, polymer with 2-ethyloxirane, oxirane and cycloaliphatic anhydride, polymer with 2,2???-[(1-methylethylidene)bis(4,1-phenyleneoxymethylene)]bis[oxirane].
P-16-0121 | 4/18/2016 | 4/13/2016 | (G) Acrylic acid polymer with polyethylene glycol.
P-16-0142 | 4/26/2016 | 4/20/2016 | (G) Amine salted polyacrylate.
P-16-0149 | 4/18/2016 | 4/15/2016 | (G) 2-alkenoic acid, alkyl ester, polymer with ethenyl benzene, alkyl 2-alky alkenoate and alkene carboxylic acid.
P-16-0159 | 4/25/2016 | 3/31/2016 | (G) Hexasodium 5-{4-[3-(8-benzoylamino-1-hydroxy-3,6-disulfonatonaphthalene-2-yldiazenyl)-4-sulfonatoanilino]-6-(2-sulfonatoethylamino)-1,3,5-triazine-2-ylamino}benzene-1,3-dicarboxylate.
P-16-0174 | 4/29/2016 | 4/19/2016 | (S) Butanedioic acid, 2-methylene-, telomer with phosphinic acid and sodium 4-ethenylbenzenesulfonate (1:1), sodium salt.
P-16-0175 | 4/28/2016 | 4/18/2016 | (S) Naphthalene, eicosyl-.

Authority: 15 U.S.C. 2601 et seq.

Dated: May 25, 2016.
Pamela Myrick,
Acting Director, Information Management Division, Office of Pollution Prevention and Toxics.

[FR Doc. 2016-13028 Filed 6-1-16; 8:45 am]

BILLING CODE 6560-50-P